DEPARTMENT OF COMMERCE

International Trade Administration

(A-427-818)

Low Enriched Uranium from France: Rescission of Antidumping Duty Administrative Review

AGENCY: Import Administration, International Trade Administration, Department of Commerce.

SUMMARY: Based on the timely withdrawal of the request for an administrative review, the Department of Commerce (the Department) is rescinding the administrative review of low enriched uranium from France for the period February 1, 2006 through January 31, 2007.

EFFECTIVE DATE: August 17, 2007.

FOR FURTHER INFORMATION CONTACT: Douglas Kirby or Myrna Lobo, AD/CVD Operations, Office 6, Import Administration, International Trade Administration, U.S. Department of Commerce, 14th Street and Constitution Avenue, NW., Washington DC 20230; telephone: (202) 482-3782 or (202) 482-2371, respectively.

SUPPLEMENTARY INFORMATION:

Background

On February 2, 2007, the Department published a notice of opportunity to request an administrative review of the antidumping duty order on low enriched uranium from France. See Antidumping or Countervailing Duty Order, Finding, or Suspended Investigation; Opportunity to Request Administrative Review, 72 FR 5007 (February 2, 2007). On February 28, 2007, USEC Inc. and United States Enrichment Corporation (petitioner) timely requested that the Department conduct an administrative review of Eurodif S.A., AREVA NC, and AREVA NC, Inc. (collectively Areva). On March 28, 2007, the Department published the notice of initiation of the antidumping duty administrative review of low enriched uranium from France for the period February 1, 2006 through January 31, 2007. See Initiation of Antidumping and Countervailing Duty Administrative Reviews, 72 FR 14516 (March 28, 2007). On June 26, 2007, petitioner withdrew its request for this administrative review with respect to the respondent, Areva. Areva did not request an administrative review for this period.

Rescission of Review

The Department's regulations at section 351.213(d)(1) provide that the Department will rescind an administrative review if the party that requested the review withdraws its request for review within 90 days of the date of publication of the notice of initiation of the requested review. Petitioner withdrew its request for review in a timely manner. Therefore, the Department is rescinding the administrative review of the antidumping duty order on low enriched uranium from France for the period February 1, 2006 through January 31, 2007.

Assessment

The Department will instruct U.S. Customs and Border Protection (CBP) to assess antidumping duties on all appropriate entries for Eurodif S.A., AREVA NC, and AREVA NC, Inc. Antidumping duties shall be assessed at rates equal to the cash deposit of estimated antidumping duties required at the time of entry, or withdrawal from warehouse, for consumption, in accordance with 19 CFR 351.212(c)(1)(i). The Department intends to issue appropriate assessment instructions to CBP 15 days after publication of this notice in the Federal Register.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding APOs

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: August 10, 2007.
Gary Taverman,
Acting Deputy Assistant Secretary for Import Administration.

[FR Doc. E7-16230 Filed 8-16-07; 8:45 am]

BILLING CODE 3510-DS-S